DEPARTMENT OF TRANSPORTATION

Coast Guard

33 CFR Part 117

[CGD08-00-029]

RIN 2115-AE47

Drawbridge Operating Regulation; Mississippi River, Iowa and Illinois

AGENCY: Coast Guard, DOT.

ACTION: Temporary deviation.

SUMMARY: The Commander, Eighth Coast Guard District, has authorized a deviation from the regulation governing the Burlington Railroad Drawbridge, Mile 403.1, Upper Mississippi River at Burlington, Iowa. This deviation allows the drawbridge to remain closed-to-navigation for 60 days from 12:01 a.m., December 31, 2000, until 12:01 a.m., March 1, 2001. The drawbridge will open on signal if at least six (6) hours advance notice is given.

DATES: This temporary deviation is effective from 12:01 a.m., December 31, 2000, until 12:01 a.m., March 1, 2001.

FOR FUTHER INFORMATION CONTACT: Roger K. Wiebusch, Bridge Administrator, Commander (obr), Eighth Coast Guard District, 1222 Spruce Street, St. Louis, MO 63103-2832, (314) 539-3900, extension 378.

SUPPLEMENTARY INFORMATION: The Burlington Railroad Drawbridge provides a vertical clearance of 21.5 feet above normal pool in the closed to navigation position. Navigation on the waterway consists primarily of commercial tows and recreational watercraft. This deviation has been coordinated with waterway users who do not object.

This deviation allows the bridge to remain closed-to-navigation from 12:01 a.m., December 31, 2000, to 12:01 a.m., March 1, 2001, with openings provided upon receipt of six (6) hours advance notice. Advance notice may be given by calling Mr. Al Poole, (309) 345-6103 during work hours and Mr. Larry Moll, (309) 752-5244, after hours. The drawbridge normally opens on signal.

Dated: December 28, 2000
K.J. Eldridge,
Captain, U.S. Coast Guard, Acting Commander, Eighth Coast Guard District.

[FR Doc. 01-436 Filed 1-5-01; 8:45 am]

BILLING CODE 4910-15-U